DEPARTMENT OF AGRICULTURE

Rural Utilities Service

7 CFR Part 1767

[Docket No. RUS-21-ELECTRIC-0019]

RIN 0572-AC53

Streamlining Electric Program Procedures; Correction

AGENCY: Rural Utilities Service, Department of Agriculture (USDA).

ACTION: Final rule; correcting amendment.

SUMMARY: On July 9, 2021, Rural Development's Rural Utilities Service referred to as “the Agency” or “Agency” published a document to streamline its procedures for the Electric Program borrowers, including its loan application requirements, approval of construction work plans, contract bidding procedures, contact approval procedures, system operation and maintenance reviews, long-range engineering plans and system design procedures. That document inadvertently published the incorrect accounting information. This document corrects the final regulations.

DATES: Effective November 16, 2021.

FOR FURTHER INFORMATION CONTACT: For information specific to this notice contact Michele Brooks, Director, Regulations Management, Rural Development Innovation Center—Regulations Management, USDA, 1400 Independence Avenue SW, STOP 1522, Room 4266, South Building, Washington, DC 20250-1522. Telephone: (202) 690-1078. Email michele.brooks@usda.gov.

SUPPLEMENTARY INFORMATION: The Rural Development's Rural Utilities Service is issuing a correction to the final rule that published July 9, 2021, at 86 FR 36199. In that rule, an inadvertent error provided the incorrect information in the Special Equipment section of part 119 § 1767.41. This correcting amendment provides the proper information.

List of Subjects in 7 CFR Part 1767

Electric power, Loan programs—energy, Rural areas, Uniform System of Accounts.

For the reasons stated in the preamble, the Rural Utilities Service corrects 7 CFR part 1767 with the following correcting amendment:

PART 1767—ACCOUNTING REQUIREMENTS FOR RUS ELECTRIC BORROWERS

1. The authority citation for part 1767 continues to read as follows:

Authority: 7 U.S.C. 901 et seq., 1921 et seq., 6941 et seq.

2. In § 1767.41, amend entry 119 by revising entry 3 to read as follows:

§ 1767.41 Accounting methods and procedures required of all RUS borrowers.

* * * * *

119 Special Equipment

* * * * *

3. Meters, Meter Sockets, current and potential transformers, and other metering equipment recorded in Account 370, Meters.

* * * * *

Christopher A. McLean,
Acting Administrator, Rural Utilities Service, U.S. Department of Agriculture.

[FR Doc. 2021-24874 Filed 11-15-21; 8:45 am]

BILLING CODE P